DEPARTMENT OF TRANSPORTATION

Maritime Administration

[Docket No. DOT-MARAD 20014 0087]

Request for Comments of a Previously Approved Information Collection

AGENCY: Maritime Administration, DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on February 26, 2014 (79 FR 10870).

DATES: Comments must be submitted on or before July 21, 2014.

ADDRESSES: Send comments regarding the burden estimate, including suggestions for reducing the burden, to the Office of Management and Budget, Attention: Desk Officer for the Office of the Secretary of Transportation, 725 17th Street NW., Washington, DC 20503. Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Daniel Ladd, Office of Financial Approvals and Marine Insurance, Division of Business Finance, Maritime Administration, U.S. Department of Transportation, 1200 New Jersey Avenue SE., Room W23-322, Washington, DC 20590, (202) 366-1859.

SUPPLEMENTARY INFORMATION:

Title: Uniform Financial Reporting Requirements.

OMB Control Number: 2133-0005.

Type of Request: Renewal of a Previously Approved Information Collection.

Abstract: The Uniform Financial Reporting Requirements are used as a basis for preparing and filing semi-annual and annual financial statements with the Maritime Administration. Regulations requiring financial reports to MARAD are authorized by Section 801, Merchant Marine Act, 1936, as amended (46 App. U.S.C. 1211). Financial reports are also required by regulation of purchasers of ships from MARAD on credit, companies chartering ships from MARAD, and of companies having Title XI guarantee obligations (46 CFR part 298).

Affected Public: Vessel owners acquiring ships from MARAD on credit, companies chartering ships from MARAD, and companies having Title XI guarantee obligations.

Estimated Number of Respondents: 66.

Estimated Number of Responses: 132.

Annual Estimated Total Annual Burden Hours: 1254.

Authority: The Paperwork Reduction Act of 1995; 44 U.S.C. Chapter 35, as amended; and 49 CFR 1:93.

Dated: June 10, 2014.
Julie P. Agarwal,
Secretary, Maritime Administration.

[FR Doc. 2014-14365 Filed 6-18-14; 8:45 am]

BILLING CODE 4910-81-P